DEPARTMENT OF COMMERCE

International Trade Administration

[C-357-817, C-351-835, C-427-823, C-580-849]

Certain Cold-Rolled Carbon Steel Flat Products From Argentina, Brazil, France, and the Republic of Korea: Extension of Time Limit for Preliminary Determinations in Countervailing Duty Investigations

AGENCY: Import Administration, International Trade Administration, Department of Commerce.

ACTION: Notice of extension of time limit for preliminary determinations in countervailing duty investigations.

SUMMARY: The Department of Commerce is extending the time limit of the preliminary determinations in the countervailing duty (“CVD”) investigations of certain cold-rolled carbon steel flat products from Argentina, Brazil, France, and the Republic of Korea from December 22, 2001 until no later than January 28, 2002. This extension is made pursuant to section 703(c)(1)(B) of the Tariff Act of 1930, as amended by the Uruguay Round Agreements Act.

EFFECTIVE DATE: December 7, 2001.

FOR FURTHER INFORMATION CONTACT: Suresh Maniam (Argentina and France), at (202) 482-0176; Sean Carey (Brazil), at (202) 482-3964; and Tipten Troidl (the Republic of Korea), at (202) 482-1767, Import Administration, U.S. Department of Commerce, 14th Street and Constitution Avenue, NW., Washington, DC 20230.

SUPPLEMENTARY INFORMATION:

Applicable Statute and Regulations

Unless otherwise indicated, all citations to the statute are references to the provisions effective January 1, 1995, the effective date of the amendments made to the Tariff Act of 1930 (“the Act”) by the Uruguay Round Agreements Act. In addition, unless otherwise indicated, all citations to the Department's regulations are to the regulations codified at 19 CFR part 351 (2001).

Extension of Due Date for Preliminary Determinations

On October 18, 2001, the Department of Commerce (“the Department”) initiated the CVD investigations of certain cold-rolled carbon steel flat products from Argentina, Brazil, France, and the Republic of Korea. See Notice of Initiation of Countervailing Duty Investigations: Certain Cold-Rolled Carbon Steel Flat Products From Argentina, Brazil, France, and the Republic of Korea, 66 FR 54218 (October 26, 2001). Currently, the preliminary determinations are due no later than December 22, 2001. However, pursuant to section 703(c)(1)(B) of the Act, we have determined that these investigations are “extraordinarily complicated” and are therefore extending the due date for the preliminary determinations by 37 days to no later than January 28, 2002. The Department notes that on November 27, 2001, petitioners submitted a letter to the Department indicating that they would not object to a 35-day postponement of the preliminary determinations. This requested postponement would result in a deadline that would fall on Saturday, January 26, 2002. Therefore, the Department has extended the due date for its preliminary determinations by 37 days, until the following Monday, January 28, 2002.

Under section 703(c)(1)(B), the Department can extend the period for reaching a preliminary determination until not later than the 130th day after the date on which the administering authority initiates an investigation if:

(B) The administering authority concludes that the parties concerned are cooperating and determines that

(i) the case is extraordinarily complicated by reason of

(I) the number and complexity of the alleged countervailable subsidy practices;

(II) the novelty of the issues presented;

(III) the need to determine the extent to which particular countervailable subsidies are used by individual manufacturers, producers, and exporters; or

(IV) the number of firms whose activities must be investigated; and

(ii) additional time is necessary to make the preliminary determination.

Regarding the first requirement, we find that in each case all concerned parties are cooperating. Regarding the second requirement for extraordinarily complicated cases, it is the Department's position that the appropriate criterion for analysis is not the number of programs in question, but rather, the specific transactions, e.g., equity infusions, debt-to-equity conversions, etc., applied under those programs, which are numerous and appropriately categorized as “practices.” With respect to the issue of the complexity of the practice, these practices are complex in nature as reflected in the extensive analysis required to address these subsidies. Therefore, we find that each of these four cases is extraordinarily complicated as described below.

Argentina

The Argentine investigation is extraordinarily complicated because a number of the alleged countervailable subsidies practices are complex or novel. For example, the Department must analyze complicated equity and debt assumption issues, involving multiple transactions, and conduct extensive and complex financial analysis. In addition, the Department is examining a “committed investment” which requires the examination of complicated circumstances and documents surrounding the privatization of the respondent. Furthermore, the Department is analyzing significant amounts of information in order to determine whether the respondent was “creditworthy” when the government provided equity and loans to the company (i.e., whether a private investor would have provided the types of financing that the government provided) and/or was “equityworthy” when the government made certain equity infusions (i.e., examining the government's investment decision against that of a private investor). In making these decisions, the Department must also determine the extent to which the particular countervailable subsidies are used by the individual respondent producers/exporters.

Brazil

The Brazilian investigation is extraordinarily complicated by reason of the number and complexity of the alleged countervailable subsidy practices. The Department has to reexamine the privatization of Brazilian mills under its new change-in-ownership methodology, which will involve the analysis of complicated circumstances and documents. In addition, petitioners have submitted additional allegations of new programs involving complex issues which will require novel and detailed analysis. In making these decisions, the Department must also determine the extent to which the particular countervailable subsidies are used by the individual respondent producers/exporters.

France

The French investigation is extraordinarily complicated because a number of the alleged programs are complex or novel. For example, the Department must analyze complicated equity and loan financing issues, involving extensive and complex financial analysis. The shareholder advance allegation will require the Department to delve into the investment decision process of the government. In addition, the Department is examining novel tax issues, involving tax benefits for foreign branches. Also, the Department will be analyzing several programs that have never been examined before or were deferred in a previous case, including government advances for SODIs, funding for electric arc furnaces, and a repayable grant to Sollac for “pre-coating” technology. Finally, the Department will be examining several allegations that the European Union provided new, additional funding to programs that were previously found not to be used on several occasions, requiring the Department to re-analyze the countervailability of some of these programs.

The Republic of Korea

The Korean investigation is extraordinarily complicated due to the number and complexity of the alleged countervailable subsidy practices. Specifically, there are nineteen programs which the Department is investigating, which involve numerous and complicated issues. Over one-fourth of these programs have never been investigated before and present novel issues, and over one-half of these programs require a significant amount of information and complex analysis, such as the various tax exemptions and credit programs. In addition, the subsidized infrastructure and R&D allegations are complex, and require various types of data and information. In making these decisions, the Department must also determine the extent to which the particular countervailable subsidies are used by the individual respondent producers/exporters.

Accordingly, we deem these investigations to be extraordinarily complicated and determine, with regard to the third requirement noted above, that additional time is necessary to make the preliminary determinations. Therefore, pursuant to section 703(c)(1)(B) of the Act, we are postponing the preliminary determinations in these investigations to January 28, 2002.

This notice is published pursuant to section 703(c)(2) of the Act.

Dated: November 30, 2001.
Richard W. Moreland,
Acting Assistant Secretary for Import Administration.

[FR Doc. 01-30375 Filed 12-6-01; 8:45 am]

BILLING CODE 3510-DS-P